DEPARTMENT OF THE INTERIOR

National Park Service

[NPS-WASO-NAGPRA-21504; PPWOCRADN0-PCU00RP14.R50000]

Notice of Inventory Completion: University of Pennsylvania Museum of Archaeology and Anthropology, Philadelphia, PA

AGENCY: National Park Service, Interior.

ACTION: Notice.

SUMMARY: The University of Pennsylvania Museum of Archaeology and Anthropology has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the University of Pennsylvania Museum of Archaeology and Anthropology. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the University of Pennsylvania Museum of Archaeology and Anthropology at the address in this notice by September 2, 2016.

ADDRESSES: Dr. Julian Siggers, Director, University of Pennsylvania Museum of Archaeology and Anthropology, Philadelphia, PA 19104, telephone (215) 898-4050.

SUPPLEMENTARY INFORMATION: Notice is here given in accordance with the Native American Graves Protection and Repatriation Act (NAGPRA), 25 U.S.C. 3003, of the completion of an inventory of human remains under the control of the University of Pennsylvania Museum of Archaeology and Anthropology, Philadelphia, PA. The human remains were removed from unknown locations in Michigan; in Wayne County, Michigan and in Milwaukee County, Wisconsin.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the University of Pennsylvania Museum of Archaeology and Anthropology professional staff in consultation with representatives of the Menominee Indian Tribe of Wisconsin; Pokagon Band of Potawatomi Indians, Michigan and Indiana; and with the Michigan Anishinaabek Cultural Preservation & Repatriation Alliance, a non-federally recognized entity, representing the following federally recognized tribes: Bay Mills Indian Community, Michigan; Grand Traverse Band of Ottawa and Chippewa Indians, Michigan; Hannahville Indian Community, Michigan; Keweenaw Bay Indian Community, Michigan; Lac Vieux Desert Band of Lake Superior Chippewa Indians of Michigan; Little River Band of Ottawa Indians, Michigan; Little Traverse Bay Bands of Odawa Indians, Michigan; Match-e-be-nash-she-wish Band of Pottawatomi Indians of Michigan; Nottawaseppi Huron Band of the Potawatomi, Michigan (previously listed as the Huron Potawatomi, Inc.); Saginaw Chippewa Indian Tribe of Michigan; and the Sault Ste. Marie Tribe of Chippewa Indians, Michigan, hereafter referred to as “The Consulted Tribes.”

History and Description of the Remains

At an unknown date between 1836 and 1839, human remains representing, at minimum, five individuals (UPM #: 97-606-35; 97-606-44; 97-606-78; 97-606-563; 97-606-1220) were removed by “workers digging for buildings, roads, or gardens” from an unknown mound site in Milwaukee County, WI. The human remains were discovered in the vicinity of Milwaukee and acquired by Increase A. Lapham, who at the time was conducting a survey of mounds in Wisconsin. Prior to 1839, Mr. Lapham sent the human remains to Dr. Samuel G. Morton for inclusion in his collection of human crania from around the world. The human remains represent a single individual, most likely female, 25-35 years of age; an adult female 50+ years of age; an adult male 30-40 years of age; an adult male 35-40 years of age; and an adult male 50+ years of age. Each of the five individuals is represented by a cranium without a mandible. The condition of all of the human remains is consistent with burial. No known individuals were identified. No associated funerary objects are present.

At an unknown date between 1820 and 1837, human remains representing, at minimum, one individual (UPM #: 97-606-454) were removed from an unknown site in Michigan or Wisconsin by Dr. Richard S. Satterlee, Assistant Surgeon for the U.S. Army. In this capacity, Dr. Satterlee served at the Detroit Barracks, MI, Fort Howard, WI, Fort Mackinac, MI, Fort Winnebago, WI, and for a second term at Fort Howard, WI. It is during this time that the human remains were collected. In 1837, Satterlee was sent to Florida. The human remains were transferred to Dr. Samuel Morton in Philadelphia for inclusion in his collection of human crania from around the world prior to 1839. The human remains are those of a single female individual estimated to be 20-30 years old and are represented by a cranium and mandible. There is little pathology represented on the bones and teeth, and the condition of the human remains suggests they were not buried. No known individuals were identified. No associated funerary objects are present.

At an unknown date, human remains representing, at minimum, one individual (UPM #: 97-606-1222) were removed from an unknown site, possibly in Michigan. Prior to 1849, Mr. John P. Wetherill of Philadelphia sent the human remains to Dr. Samuel G. Morton. The human remains are represented by a cranium and mandible of a single male, 30-40 years of age. This individual is identified as “Natonake, a Menominee Chief.” No known individuals were identified. No associated funerary objects are present.

At this time, the Academy of Natural Sciences of Philadelphia provided storage space for much of Dr. Morton's collections, including these human remains, until his death in 1851. In 1853, Dr. Morton's collection, including all of the human remains described above, were purchased from Dr. Morton's Estate and formally presented to the Academy of Natural Sciences. In 1966, Dr. Morton's collection was loaned to the University of Pennsylvania Museum of Archaeology and Anthropology. In 1997, the collection was formally gifted to the University of Pennsylvania Museum of Archaeology and Anthropology.

Museum collections and published literature indicate that the seven sets of human remains date to the Historic Period. The human remains have been identified as Native American based on the specific cultural and geographic attributions in the museum records. Collector's records, museum documentation and published historical sources identify the human remains above as Menominee. Scholarly ethno-historic and anthropological publications and land cession records indicate that the areas from which the human remains were removed are within the traditional aboriginal territory of the Menominee Indians, and historic Menominee occupation sites within these areas have been identified.

Determinations Made by the University of Pennsylvania Museum of Archaeology and Anthropology

Officials of the University of Pennsylvania Museum of Archaeology and Anthropology have determined that:

• Pursuant to 25 U.S.C. 3001(9), the human remains described in this notice represent the physical remains of 7 individuals of Native American ancestry.

• Pursuant to 25 U.S.C. 3001(2), there is a relationship of shared group identity that can be reasonably traced between the Native American human remains and the Menominee Indian Tribe of Wisconsin.

Additional Requestors and Disposition

Lineal descendants or representatives of any Indian tribe or Native Hawaiian organization not identified in this notice that wish to request transfer of control of these human remains should submit a written request with information in support of the request to Dr. Julian Siggers, University of Pennsylvania Museum of Archaeology and Anthropology, 3260 South Street, Philadelphia, PA 19104, telephone (215) 898-4050, by September 2, 2016. After that date, if no additional requestors have come forward, transfer of control of the human remains to the Menominee Indian Tribe of Wisconsin may proceed.

The University of Pennsylvania Museum of Archaeology and Anthropology is responsible for notifying The Consulted Tribes that this notice has been published.

Dated: July 8, 2016.
Melanie O'Brien,
Manager, National NAGPRA Program.

[FR Doc. 2016-18356 Filed 8-2-16; 8:45 am]

BILLING CODE 4312-50-P